EQUAL EMPLOYMENT OPPORTUNITY COMMISSION

SES Performance Review Board Members

AGENCY: Equal Employment Opportunity Commission (EEOC).

ACTION: Notice.

SUMMARY: Notice is hereby given of the names of the members of the SES Performance Review Board of EEOC for FY 2000.

FOR FURTHER INFORMATION CONTACT: Patricia Cornwell Johnson, Director, Office of Human Resources, Equal Employment Opportunity Commission, 1801 L Street, N.W., Washington, D.C. 20507, (202) 663-4306.

SUPPLEMENTARY INFORMATION: Pursuant to the requirement of 5 U.S.C. 4314(c)(1), membership of the SES Performance Review Board is as follows: Ms. Emilie G. Heller, Director, Policy Management and Coordination, Equal Employment Opportunity Commission (Chair); Mr. James N. Finney, Associate General Counsel, Systemic Investigations and Review Programs, Equal Employment Opportunity Commission; Mr. John P. Rowe, Director, Chicago District Office, Equal Employment Opportunity Commission; and Ms. Peggy Mastroianni, Associate Legal Counsel, Equal Employment Opportunity Commission (Alternate).

Signed at Washington, D.C., on the 8th day of January 2001.
For the EEOC.
Ida L. Castro,
Chairwoman.

[FR Doc. 01-1078 Filed 1-11-01; 8:45 am]

BILLING CODE 6570-01-P